DEPARTMENT OF STATE

22 CFR Part 41

[Public Notice 8517]

RIN 1400-AD42

Visas: Documentation of Nonimmigrants—Visa Classification; T Visa Class

AGENCY: State Department.

ACTION: Final rule.

SUMMARY: This rule is being promulgated to add a new visa classification symbol to the nonimmigrant classification table in our regulations. This amendment is necessary to implement legislation that created an additional nonimmigrant classification as described herein.

DATES: This rule is effective November 18, 2013.

FOR FURTHER INFORMATION CONTACT: Lauren A. Prosnik, Legislation and Regulations Division, Visa Services, Department of State, 2401 E Street NW., Room L-603D, Washington, DC 20520-0106, (202) 663-1260.

SUPPLEMENTARY INFORMATION:

Why is the Department promulgating this rule?

Section 1221 of the Violence Against Women Reauthorization Act of 2013 (Pub. L. 113-4) amended Section 101(a)(15)(T)(ii)(III) of the Immigration and Nationality Act by adding a derivative “T” visa class. The T-6 visa would be available to eligible adult and minor children of a derivative beneficiary of a T-1 principal alien whom the Secretary of Homeland Security, in consultation with the law enforcement officer investigating a severe form of trafficking, determines faces a present danger of retaliation as a result of the alien's escape from trafficking or cooperation with law enforcement to accompany or follow to join the principal alien. This rule amends 22 CFR 41.12 to include the T-6 visa classification in the chart of nonimmigrant visa classification symbols.

Regulatory Findings

Administrative Procedure Act

This regulation involves a foreign affairs function of the United States and, therefore, in accordance with 5 U.S.C. 553(a)(1), is not subject to the rulemaking procedures set forth at 5 U.S.C. 553.

Regulatory Flexibility Act/Executive Order 13272: Small Business

Because this final rule is exempt from notice and comment rulemaking under 5 U.S.C. 553, it is exempt from the regulatory flexibility analysis requirements set forth by the Regulatory Flexibility Act (5 U.S.C. 603 and 604). Nonetheless, consistent with the Regulatory Flexibility Act (5 U.S.C. 605(b)), the Department certifies that this rule will not have a significant economic impact on a substantial number of small entities, since it involves creating a nonimmigrant visa category for certain victims of trafficking.

Unfunded Mandates Reform Act of 1995

Section 202 of the Unfunded Mandates Reform Act of 1995, 2 U.S.C. 1532, generally requires agencies to prepare a statement before proposing any rule that may result in an annual expenditure of $100 million or more by State, local, or tribal governments, or by the private sector. This rule will not result in any such expenditure, nor will it significantly or uniquely affect small governments.

Small Business Regulatory Enforcement Fairness Act of 1996

This rule is not a major rule as defined by 5 U.S.C. 804. The Department is aware of no monetary effect on the economy that would result from this rulemaking, nor will there be any increase in costs or prices; or any effect on competition, employment, investment, productivity, innovation, or the ability of United States-based companies to compete with foreign-based companies in domestic and import markets.

Executive Order 12866

The Department of State has reviewed this rule to ensure its consistency with the regulatory philosophy and principles set forth in Executive Order 12866, and has determined that the benefits of this regulation, i.e., complying with a Congressional mandate and providing a nonimmigrant visa category for certain victims of trafficking, outweigh any cost. The Department does not consider this rule to be a significant rulemaking action.

Executive Orders 12372 and 13132: Federalism

This regulation will not have substantial direct effects on the States, on the relationship between the national government and the States, or the distribution of power and responsibilities among the various levels of government. The rule will not have federalism implications warranting the application of Executive Orders 12372 and 13132.

Executive Order 12988: Civil Justice Reform

The Department has reviewed the regulation in light of sections 3(a) and 3(b)(2) of Executive Order 12988 to eliminate ambiguity, minimize litigation, establish clear legal standards, and reduce burden.

Executive Order 13563: Improving Regulation and Regulatory Review

The Department has considered this rule in light of Executive Order 13563, dated January 18, 2011, and affirms that this regulation is consistent with the guidance therein.

Paperwork Reduction Act

This rule does not impose information collection requirements under the provisions of the Paperwork Reduction Act, 44 U.S.C. Chapter 35 beyond what is already required of other nonimmigrant visa applicants.

List of Subjects in 22 CFR Part 41

Aliens, Foreign Officials, Immigration, Documentation of nonimmigrants, Passports and visas.

For the reasons stated in the preamble, the Department of State amends 22 CFR Part 41 to read as follows:

PART 41—VISAS: DOCUMENTATION OF NONIMMIGRANTS UNDER THE IMMIGRATION AND NATIONALITY ACT, AS AMENDED

1. The authority citation for Part 41 continues to read as follows:

Authority: 8 U.S.C. 1104; Pub. L. 105-277, 112 Stat. 2681-795 through 2681-801; 8 U.S.C. 1185 note (section 7209 of Pub. L. 108-458, as amended by section 546 of Pub. L. 109-295).

2. Section 41.12 is revised to read as follows:

§ 41.12 Classification symbols.

A visa issued to a nonimmigrant alien within one of the classes described in this section shall bear an appropriate visa symbol to show the classification of the alien. The symbol shall be inserted in the space provided on the visa. The following visa symbols shall be used:

Symbol | Class | Section of law
A1 | Ambassador, Public Minister, Career Diplomat or Consular Officer, or Immediate Family | 101(a)(15)(A)(i).
A2 | Other Foreign Government Official or Employee, or Immediate Family | 101(a)(15)(A)(ii).
A3 | Attendant, Servant, or Personal Employee of A1 or A2, or Immediate Family | 101(a)(15)(A)(iii).
B1 | Temporary Visitor for Business | 101(a)(15)(B).
B2 | Temporary Visitor for Pleasure | 101(a)(15)(B).
B1/B2 | Temporary Visitor for Business & Pleasure | 101(a)(15)(B).
C1 | Alien in Transit | 101(a)(15)(C).
C1/D | Combined Transit and Crewmember Visa | 101(a)(15)(C) and (D).
C2 | Alien in Transit to United Nations Headquarters District Under Sec. 11.(3), (4), or (5) of the Headquarters Agreement | 101(a)(15)(C).
C3 | Foreign Government Official, Immediate Family, Attendant, Servant or Personal Employee, in Transit | 212(d)(8).
D | Crewmember (Sea or Air) | 101(a)(15)(D).
E1 | Treaty Trader, Spouse or Child | 101(a)(15)(E)(i).
E2 | Treaty Investor, Spouse or Child | 101(a)(15)(E)(ii).
E3 | Australian Treaty Alien coming to the United States Solely to Perform Services in a Specialty Occupation | 101(a)(15)(E)(iii).
E3D | Spouse or Child of E3 | 101(a)(15)(E)(iii).
E3R | Returning E3 | 101(a)(15)(E)(iii).
F1 | Student in an academic or language training program | 101(a)(15)(F)(i).
F2 | Spouse or Child of F1 | 101(a)(15)(F)(ii).
F3 | Canadian or Mexican national commuter student in an academic or language training program | 101(a)(15)(F)(iii).
G1 | Principal Resident Representative of Recognized Foreign Government to International Organization, Staff, or Immediate Family | 101(a)(15)(G)(i).
G2 | Other Representative of Recognized Foreign Member Government to International Organization, or Immediate Family | 101(a)(15)(G)(ii).
G3 | Representative of Nonrecognized or Nonmember Foreign Government to International Organization, or Immediate Family | 101(a)(15)(G)(iii).
G4 | International Organization Officer or Employee, or Immediate Family | 101(a)(15)(G)(iv).
G5 | Attendant, Servant, or Personal Employee of G1 through G4, or Immediate Family | 101(a)(15)(G)(v).
H1B | Alien in a Specialty Occupation (Profession) | 101(a)(15)(H)(i)(b).
H1B1 | Chilean or Singaporean National to Work in a Specialty Occupation | 101(a)(15)(H)(i)(b1).
H1C | Nurse in health professional shortage area | 101(a)(15)(H)(i)(c).
H2A | Temporary Worker Performing Agricultural Services Unavailable in the United States | 101(a)(15)(H)(ii)(a).
H2B | Temporary Worker Performing Other Services Unavailable in the United States | 101(a)(15)(H)(ii)(b).
H3 | Trainee | 101(a)(15)(H)(iii).
H4 | Spouse or Child of Alien Classified H1B/B1/C, H2A/B/R, or H-3 | 101(a)(15)(H)(iv).
I | Representative of Foreign Information Media, Spouse and Child | 101(a)(15)(I).
J1 | Exchange Visitor | 101(a)(15)(J).
J2 | Spouse or Child of J1 | 101(a)(15)(J).
K1 | Fiance(e) of United States Citizen | 101(a)(15)(K)(i).
K2 | Child of Fiance(e) of U.S. Citizen | 101(a)(15)(K)(iii).
K3 | Spouse of U.S. citizen awaiting availability of immigrant visa | 101(a)(15)(K)(ii).
K4 | Child of K3 | 101(a)(15)(K)(iii).
L1 | Intracompany Transferee (Executive, Managerial, and Specialized Knowledge Personnel Continuing Employment with International Firm or Corporation) | 101(a)(15)(L).
L2 | Spouse or Child of Intracompany Transferee | 101(a)(15)(L).
M1 | Vocational Student or Other Nonacademic Student | 101(a)(15)(M)(i).
M2 | Spouse or Child of M1 | 101(a)(15)(M)(ii).
M3 | Canadian or Mexican national commuter student (Vocational student or other nonacademic student) | 101(a)(15)(M)(iii).
N8 | Parent of an Alien Classified SK3 or SN3 | 101(a)(15)(N)(i).
N9 | Child of N8 or of SK1, SK2, SK4, SN1, SN2 or SN4 | 101(a)(15)(N)(ii).
NATO 1 | Principal Permanent Representative of Member State to NATO (including any of its Subsidiary Bodies) Resident in the U.S. and Resident Members of Official Staff; Secretary General, Assistant Secretaries General, and Executive Secretary of NATO; Other Permanent NATO Officials of Similar Rank, or Immediate Family | Art. 12, 5 UST 1094; Art. 20, 5 UST 1098.
NATO 2 | Other Representative of member state to NATO (including any of its Subsidiary Bodies) including Representatives, Advisers, and Technical Experts of Delegations, or Immediate Family; Dependents of Member of a Force Entering in Accordance with the Provisions of the NATO Status-of-Forces Agreement or in Accordance with the provisions of the “Protocol on the Status of International Military Headquarters”; Members of Such a Force if Issued Visas | Art. 13, 5 UST 1094; Art. 1, 4 UST 1794; Art. 3, 4 UST 1796.
NATO 3 | Official Clerical Staff Accompanying Representative of Member State to NATO (including any of its Subsidiary Bodies), or Immediate Family | Art. 14, 5 UST 1096.
NATO 4 | Official of NATO (Other Than Those Classifiable as NATO1), or Immediate Family | Art. 18, 5 UST 1098.
NATO 5 | Experts, Other Than NATO Officials Classifiable Under NATO4, Employed in Missions on Behalf of NATO, and their Dependents | Art. 21, 5 UST 1100.
NATO 6 | Member of a Civilian Component Accompanying a Force Entering in Accordance with the Provisions of the NATO Status-of-Forces Agreement; Member of a Civilian Component Attached to or Employed by an Allied Headquarters Under the “Protocol on the Status of International Military Headquarters” Set Up Pursuant to the North Atlantic Treaty; and their Dependents | Art. 1, 4 UST 1794; Art. 3, 5 UST 877.
NATO 7 | Attendant, Servant, or Personal Employee of NATO1, NATO2, NATO 3, NATO4, NATO5, and NATO6 Classes, or Immediate Family | Arts. 12-20, 5 UST 1094-1098.
O1 | Alien with Extraordinary Ability in Sciences, Arts, Education, Business or Athletics | 101(a)(15)(O)(i).
O2 | Alien Accompanying and Assisting in the Artistic or Athletic Performance by O1 | 101(a)(15)(O)(ii).
O3 | Spouse or Child of O1 or O2 | 101(a)(15)(O)(iii).
P1 | Internationally Recognized Athlete or Member of Internationally Recognized Entertainment Group | 101(a)(15)(P)(i).
P2 | Artist or Entertainer in a Reciprocal Exchange Program | 101(a)(15)(P)(ii).
P3 | Artist or Entertainer in a Culturally Unique Program | 101(a)(15)(P)(iii).
P4 | Spouse or Child of P1, P2, or P3 | 101(a)(15)(P)(iv).
Q1 | Participant in an International Cultural Exchange Program | 101(a)(15)(Q)(i).
Q2 | Irish Peace Program Participant | 101(a)(15)(Q)(ii)(I).
Q3 | Spouse or Child of Q2 | 101(a)(15)(Q)(ii)(II).
R1 | Alien in a Religious Occupation | 101(a)(15)(R).
R2 | Spouse or Child of R1 | 101(a)(15)(R).
S5 | Certain Aliens Supplying Critical Information Relating to a Criminal Organization or Enterprise | 101(a)(15)(S)(i).
S6 | Certain Aliens Supplying Critical Information Relating to Terrorism | 101(a)(15)(S)(ii).
S7 | Qualified Family Member of S5 or S6 | 101(a)(15)(S).
T1 | Victim of a severe form of trafficking in persons | 101(a)(15)(T)(i).
T2 | Spouse of T1 | 101(a)(15)(T)(ii).
T3 | Child of T1 | 101(a)(15)(T)(ii).
T4 | Parent of a T1 under 21 years of age | 101(a)(15)(T)(ii).
T5 | Unmarried Sibling under age 18 of T1 under 21 years of age | 101(a)(15)(T)(ii).
T6 | Adult or Minor Child of a Derivative Beneficiary of a T1 | 101(a)(15)(T)(ii).
TN | NAFTA Professional | 214(e)(2).
TD | Spouse or Child of a NAFTA Professional | 214(e)(2).
U1 | Victim of criminal activity | 101(a)(15)(U)(i).
U2 | Spouse of U1 | 101(a)(15)(U)(ii).
U3 | Child of U1 | 101(a)(15)(U)(ii).
U4 | Parent of U1 under 21 years of age | 101(a)(15)(U)(ii).
U5 | Unmarried Sibling under age 18 of U1 under 21 years of age | 101(a)(15)(U)(ii).
V1 | Spouse of a Lawful Permanent Resident Alien Awaiting Availability of Immigrant Visa | 101(a)(15)(V)(i) or 101(a)(15)(V)(ii).
V2 | Child of a Lawful Permanent Resident Alien Awaiting Availability Of Immigrant Visa | 101(a)(15)(V)(i) or 101(a)(15)(V)(ii).
V3 | Child of a V1 or V2 | 203(d) & 101(a)(15)(V)(i) or 101 (a)(15)(V)(ii).

Dated: August 20, 2013.
Janice L. Jacobs,
Assistant Secretary for Consular Affairs, Department of State.

[FR Doc. 2013-27303 Filed 11-15-13; 8:45 am]

BILLING CODE 4710-06-P